DEPARTMENT OF COMMERCE

International Trade Administration

[A-122-875, A-570-219, and A-201-867]

Van-Type Trailers and Subassemblies Thereof From Canada, the People's Republic of China, and Mexico: Initiation of Less-Than-Fair-Value Investigations

AGENCY: Enforcement and Compliance, International Trade Administration, Department of Commerce.

DATES: Applicable January 20, 2026.

FOR FURTHER INFORMATION CONTACT: Maria Theresa Aymerich (Canada) at (202) 482-0499; Jacob Waddell (the People's Republic of China (China)) at (202) 482-1369; and Jun Jack Zhao at (202) 482-1396 (Mexico), AD/CVD Operations, Enforcement and Compliance, International Trade Administration, U.S. Department of Commerce, 1401 Constitution Avenue NW, Washington, DC 20230.

SUPPLEMENTARY INFORMATION:

The Petitions

On November 20, 2025, the U.S. Department of Commerce (Commerce) received antidumping duty (AD) petitions concerning imports of van-type trailers and subassemblies thereof (van-type trailers) from Canada, China, and Mexico filed in proper form on behalf of the American Trailer Manufacturers Coalition (the petitioner),¹ the members of which are domestic producers of van-type trailers.² The AD Petitions were accompanied by countervailing duty (CVD) petitions concerning imports of van-type trailers from Canada, China, and Mexico.³

¹ The members of the American Trailer Manufacturers Coalition are Great Dane LLC, Stoughton Trailers LLC, and Wabash National Corporation.

² See Petitioner's Letter, “Petitions for the Imposition of Antidumping and Countervailing Duties,” dated November 20, 2025 (Petitions).

³ Id.

Due to a backlog of documents that were electronically filed via Enforcement and Compliance's Antidumping and Countervailing Duty Centralized Electronic Service System (ACCESS) during the Federal Government shutdown, on November 24, 2025, Commerce tolled all deadlines in administrative proceedings by 21 days.⁴ The revised deadline for the initiation of these investigations was December 31, 2025. After considering comments regarding industry support, Commerce extended the initiation deadline by 20 days to further examine the issue of industry support, because it was not clear from the Petitions whether the industry support criteria had been met.⁵

⁴ See Memorandum, “Tolling of all Case Deadlines,” dated November 24, 2025.

⁵ See Notice of Extension of the Deadline for Determining the Adequacy of the Antidumping and Countervailing Duty Petitions: Certain Van-Type Trailers and Subassemblies Thereof from Canada, Mexico, and the People's Republic of China, 91 FR 249 (January 5, 2026) (Initiation Deadline Extension Notice).

Between November 28, 2025 and January 13, 2026, Commerce requested supplemental information pertaining to certain aspects of the Petitions in supplemental questionnaires.⁶ Between December 4, 2025 and January 15, 2026, the petitioner filed timely responses to these requests for additional information.⁷

⁶ See Commerce's Letter, “Supplemental Questions,” dated December 1, 2025 (First General Issues Questionnaire); see also Country-Specific Supplemental Questionnaires: First Canada Supplemental and First Mexico Supplemental, dated November 28, 2025; First China Supplemental, dated December 1, 2025; Commerce's Letter, “Supplemental Questions,” dated December 15, 2025 (Second General Issues Questionnaire); Country-Specific Supplemental Questionnaires: Second Canada Supplemental, Second Mexico Supplemental, and Second China Supplemental, dated December 11, 2025; Commerce's Letter, “Supplemental Questions,” dated January 7, 2026 (Third General Issues Questionnaire); Country-Specific Supplemental Questionnaires: Third China Supplemental, dated December 19, 2025; Third Canada Supplemental and Third Mexico Supplemental, dated December 22, 2025; Commerce's Letter, “Supplemental Questions,” dated January 13, 2026 (Fourth General Issues Questionnaire); Country-Specific Supplemental Questionnaires: Fourth Mexico Supplemental and Fourth China Supplemental, dated January 9, 2026; and Memorandum, “Teleconference with Counsel to the Petitioner,” dated January 9, 2026 (Fourth Canada Supplemental).

⁷ See Petitioner's Letter, “Petitioner Response to First Supplemental Questionnaire Regarding Common Issues and Injury Volume I of the Petition,” dated December 8, 2025 (First General Issues Supplement); see also Country-Specific AD Supplemental Responses: First Canada AD Supplement and First Mexico AD Supplement, dated December 4, 2025; First China AD Supplement, dated December 5, 2025; Petitioner's Letter, “Response to the Second Supplemental Questionnaire Regarding Common Issues and Injury Volume I of the Petition,” dated December 18, 2025 (Second General Issues Supplement); Country-Specific AD Supplemental Responses: Second China AD Supplement, dated December 15, 2025, Second Canada AD Supplement and Second Mexico AD Supplement, dated December 18, 2025; Petitioner's Letter, “Response to the Third Supplemental Questionnaire Regarding Common Issues and Injury Volume I of the Petition,” dated January 9, 2026 (Third General Issues Supplement); Country-Specific AD Supplemental Responses: Third Canada AD Supplement, Third Mexico AD Supplement, Third China AD Supplement, dated December 29, 2025; Petitioner's Letter, “Response to the Fourth Supplemental Questionnaire Regarding Common Issues and Injury Volume I of the Petition,” dated January 15, 2026 (Fourth General Issues Supplement); and Country-Specific AD Supplemental Responses: Fourth Canada AD Supplement, Fourth Mexico AD Supplement, Fourth China AD Supplement, dated January 13, 2026.

In accordance with section 732(b) of the Tariff Act of 1930, as amended (the Act), the petitioner alleges that imports of van-type trailers from Canada, China, and Mexico are being, or are likely to be, sold in the United States at less than fair value (LTFV) within the meaning of section 731 of the Act, and that imports of such products are materially injuring, or threatening material injury to, the van-type trailers industry in the United States. Consistent with section 732(b)(1) of the Act, the Petitions were accompanied by information reasonably available to the petitioner supporting its allegations.

Commerce finds that the petitioner filed the Petitions on behalf of the domestic industry, because the petitioner is an interested party, as defined in section 771(9)(F) of the Act.⁸ Commerce also finds that the petitioner demonstrated sufficient industry support for the initiation of the requested LTFV investigations.⁹

⁸ The members of the petitioning coalition are interested parties under section 771(9)(C) of the Act.

⁹ See section on “Determination of Industry Support for the Petitions,” infra.

Periods of Investigation

Because the Petitions were filed on November 20, 2025, pursuant to 19 CFR 351.204(b)(1), the period of investigation (POI) for the Canada and Mexico LTFV investigations is October 1, 2024, through September 30, 2025. Because China is a non-market economy (NME) country, pursuant to 19 CFR 351.204(b)(1), the POI for the China LTFV investigation is April 1, 2025, through September 30, 2025.

Scope of the Investigations

The products covered by these investigations are van-type trailers from Canada, China, and Mexico. For a full description of the scope of these investigations, see the appendix to this notice.

Comments on the Scope of the Investigations

On December 1 and 15, 2025, Commerce requested information and clarification from the petitioner regarding the proposed scope to ensure that the scope language in the Petitions is an accurate reflection of the products for which the domestic industry is seeking relief.¹⁰ On December 8 and 18, 2025, the petitioner provided clarifications and revised the scope.¹¹ The description of merchandise covered by these investigations, as described in the appendix to this notice, reflects these clarifications.

¹⁰ See First General Issues Questionnaire; see also Second General Issues Questionnaire.

¹¹ See First General Issues Supplement at 2-23 and Exhibits I-Supp-2 and I-Supp-3; see also Second General Issues Supplement at 1-4 and Exhibits I-Supp2-1 through I-Supp2-4.

As discussed in the Preamble to Commerce's regulations, we are setting aside a period for interested parties to raise issues regarding product coverage (i.e., scope).¹² Commerce will consider all scope comments received from interested parties and, if necessary, will consult with interested parties prior to the issuance of the preliminary determinations. If scope comments include factual information,¹³ all such factual information should be limited to public information. Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on February 9, 2026, which is 20 calendar days from the signature date of this notice. Any rebuttal comments, which may include factual information, and should also be limited to public information, must be filed by 5:00 p.m. ET on February 19, 2026, which is 10 calendar days from the initial comment deadline.

¹² See Antidumping Duties; Countervailing Duties, Final Rule, 62 FR 27296, 27323 (May 19, 1997) (Preamble); see also 19 CFR 351.312.

¹³ See 19 CFR 351.102(b)(21) (defining “factual information”).

Commerce requests that any factual information that parties consider relevant to the scope of these investigations be submitted during that period. However, if a party subsequently finds that additional factual information pertaining to the scope of the investigations may be relevant, the party must contact Commerce and request permission to submit the additional information. All scope comments must be filed simultaneously on the records of the concurrent LTFV and CVD investigations.

Filing Requirements

All submissions to Commerce must be filed electronically via Enforcement and Compliance's Antidumping Duty and Countervailing Duty Centralized Electronic Service System (ACCESS), unless an exception applies.¹⁴ An electronically filed document must be received successfully in its entirety by the time and date it is due.

¹⁴ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of van-type trailers to be reported in response to Commerce's AD questionnaires. This information will be used to identify the key physical characteristics of the subject merchandise in order to report the relevant factors of production (FOP) or cost of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe van-type trailers, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on February 9, 2026, which is 20 calendar days from the signature date of this notice. Any rebuttal comments must be filed by 5:00 p.m. ET on February 19, 2026, which is 10 calendar days from the initial comment deadline. All comments and submissions to Commerce must be filed electronically using ACCESS, as explained above, on the record of each of the LTFV investigations.

Determination of Industry Support for the Petitions

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹⁵ they do so for different purposes and pursuant to a separate and distinct authority. In addition, Commerce's determination is subject to limitations of time and information. Although this may result in different definitions of the like product, such differences do not render the decision of either agency contrary to law.¹⁶

¹⁵ See section 771(10) of the Act.

¹⁶ See USEC, Inc. v. United States, 132 F.Supp.2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹⁷ Based on our analysis of the information submitted on the record, we have determined that van-type trailers, as defined in the scope, constitute a single domestic like product, and we have analyzed industry support in terms of that domestic like product.¹⁸

¹⁷ For a discussion of the domestic like product analysis as applied to these cases and information regarding industry support, see Checklists, “Antidumping Duty Investigation Initiation Checklists: Van-Type Trailers and Subassemblies Thereof from Canada, the People's Republic of China, and Mexico,” dated concurrently with, and hereby adopted by, this notice (Country-Specific AD Initiation Checklists), at Attachment II, Analysis of Industry Support for the Antidumping and Countervailing Duty Petitions Covering Van-Type Trailers and Subassemblies Thereof from Canada, the People's Republic of China, and Mexico, and the People's Republic of China (Attachment II). These checklists are on file electronically via ACCESS.

¹⁸ For further discussion, see Attachment II of the Country-Specific AD Initiation Checklists.

In determining whether the petitioner has standing under section 732(c)(4)(A) of the Act, we considered the industry support data contained in the Petitions with reference to the domestic like product as defined in the “Scope of the Investigations,” in the appendix to this notice. To establish industry support, the petitioner provided the 2024 production of the domestic like product for the supporters of the Petitions and compared this to the estimated total production of the domestic like product for the entire domestic industry.¹⁹ We relied on data provided by the petitioner for purposes of measuring industry support.²⁰

¹⁹ For further discussion, see Attachment II of the Country-Specific AD Initiation Checklists.

²⁰ Id.

On December 23, 2025, we received timely filed comments on industry support from Utility Trailer Manufacturing Company, LLC (UTMC), a U.S. producer of van-type trailers.²¹ On December 23, 2025, we also received timely filed comments on industry support from Qingdao CIMC Reefer Trailer Co., Ltd.; Vanguard Refrigerated Trailer Co., Ltd.; Vanguard National Trailer Corporation; and Vanguard Reefer Trailer, Inc. (CIMC/Vanguard), a U.S. importer and foreign producer of van-type trailers.²² On December 29, 2025, the petitioner responded to the comments from UTMC and CIMC/Vanguard in a timely filed rebuttal submission.²³ As noted above, on December 31, 2025, Commerce extended the initiation deadline by 20 days to further examine the issue of industry support, because it was not clear from the Petitions whether the industry support criteria had been met.²⁴

²¹ See UTMC's Letter, “Comments on Initiation,” dated December 23, 2025.

²² See CIMC/Vanguard's Letter, “Comments on Industry Support for Petitions,” dated December 23, 2025.

²³ See Petitioner's Letter, “Response to Comments on Industry Support,” dated December 29, 2025 (Petitioner's Response).

²⁴ See Initiation Deadline Extension Notice.

Our review of the data provided in the Petitions, the First General Issues Supplement, the Second General Issues Supplement, the Third General Issues Supplement, the Fourth General Issues Supplement, the Petitioner's Response, and other information readily available to Commerce indicates that the petitioner has established industry support for the Petitions.²⁵ First, the Petitions established support from domestic producers (or workers) accounting for more than 50 percent of the total production of the domestic like product and, as such, Commerce is not required to take further action in order to evaluate industry support (e.g., polling).²⁶ Second, the domestic producers (or workers) have met the statutory criteria for industry support under section 732(c)(4)(A)(i) of the Act because the domestic producers (or workers) who support the Petitions account for at least 25 percent of the total production of the domestic like product.²⁷ Finally, the domestic producers (or workers) have met the statutory criteria for industry support under section 732(c)(4)(A)(ii) of the Act because the domestic producers (or workers) who support the Petitions account for more than 50 percent of the production of the domestic like product produced by that portion of the industry expressing support for, or opposition to, the Petitions.²⁸ Accordingly, Commerce determines that the Petitions were filed on behalf of the domestic industry within the meaning of section 732(b)(1) of the Act.²⁹

²⁵ See Attachment II of the Country-Specific AD Initiation Checklists.

²⁶ Id.; see also section 732(c)(4)(D) of the Act.

²⁷ See Attachment II of the Country-Specific AD Initiation Checklists.

²⁸ Id.

²⁹ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.³⁰

³⁰ For further discussion, see Country-Specific AD Initiation Checklists at Attachment III, Analysis of Allegations and Evidence of Material Injury and Causation for the Antidumping and Countervailing Duty Petitions Covering Van-Type Trailers and Subassemblies Thereof from Canada, Mexico, and the People's Republic of China.

The petitioner contends that the industry's injured condition is illustrated by a significant increase in the volumes of subject imports; increased market share of subject imports; underselling and price depression and/or suppression; lost sales and revenues; declines in production, capacity utilization, U.S shipments, and employment variables; adverse impact on financial performance; negative impact on industry development and investment returns; and the magnitude of the alleged dumping margins.³¹ We assessed the allegations and supporting evidence regarding material injury, threat of material injury, causation, as well as negligibility, and we have determined that these allegations are properly supported by adequate evidence, and meet the statutory requirements for initiation.³²

³¹ Id.

³² Id.

Allegations of Sales at LTFV

The following is a description of the allegations of sales at LTFV upon which Commerce based its decision to initiate LTFV investigations of imports of van-type trailers from Canada, China, and Mexico. The sources of data for the deductions and adjustments relating to U.S. price and normal value (NV) are discussed in greater detail in the Country-Specific AD Initiation Checklists.

U.S. Price

For Canada, the petitioner based export price (EP) on the average unit value (AUV) of publicly available import data for van-type trailers from Canada during the POI.³³ For Mexico and China, the petitioner based EP on pricing information for van-type trailers produced in each country and sold or offered for sale in the U.S. market during the POI.³⁴ For each country, the petitioner made certain adjustments to U.S. price to calculate a net ex-factory U.S. price, where applicable.³⁵

³³ See Canada AD Initiation Checklist.

³⁴ See Country-Specific AD Initiation Checklists.

³⁵ Id.

Normal Value ³⁶

³⁶ In accordance with section 773(b)(2) of the Act, for the Canada and Mexico LTFV investigations, Commerce will request information necessary to calculate the constructed value (CV) and COP to determine whether there are reasonable grounds to believe or suspect that sales of the foreign like product have been made at prices that represent less than the COP of the product.

For Canada and Mexico, the petitioner stated that it was unable to obtain home market or third-country pricing information for van-type trailers in Canada and Mexico to use as the basis for NV.³⁷ Therefore, for Canada and Mexico, the petitioner calculated NV based on CV. For further discussion of CV, see the section “Normal Value Based on Constructed Value.”

³⁷ See Country-Specific AD Initiation Checklists.

Commerce considers China to be an NME country.³⁸ In accordance with section 771(18)(C)(i) of the Act, any determination that a foreign country is an NME country shall remain in effect until revoked by Commerce. Therefore, we continue to treat China as an NME country for purposes of the initiation of this LTFV investigation. Accordingly, we base NV on FOPs valued in a surrogate market economy country in accordance with section 773(c) of the Act.

³⁸ See, e.g., Certain Freight Rail Couplers and Parts Thereof from the People's Republic of China: Preliminary Affirmative Determination of Sales at Less Than Fair Value and Preliminary Affirmative Determination of Critical Circumstances, 88 FR 15372 (March 13, 2023), and accompanying Preliminary Decision Memorandum at 5, unchanged in Certain Freight Rail Couplers and Parts Thereof from the People's Republic of China: Final Affirmative Determination of Sales at Less-Than-Fair Value and Final Affirmative Determination of Critical Circumstances, 88 FR 34485 (May 30, 2023).

The petitioner claims that the Republic of Türkiye (Türkiye) is an appropriate surrogate country for China because it is a market economy that is at a level of economic development comparable to that of China and is a significant producer of comparable merchandise.³⁹ Based on additional questions from Commerce,⁴⁰ the petitioner also provided normal value calculations based on Brazil and Mexico as surrogate countries, which the petitioner notes are market economies that are at levels of economic development comparable to that of China and are significant producers of comparable merchandise.⁴¹ The petitioner provided publicly available information from Türkiye, Brazil, and Mexico to value all FOPs.⁴² Based on the information provided by the petitioner, we believe it is appropriate to use Türkiye, Brazil, and Mexico as surrogate countries for China to value all FOPs for initiation purposes.

³⁹ See China AD Initiation Checklist.

⁴⁰ See Third China AD Supplemental.

⁴¹ See Third China AD Supplement.

⁴² Id.

Interested parties will have the opportunity to submit comments regarding surrogate country selection and, pursuant to 19 CFR 351.301(c)(3)(i), will be provided an opportunity to submit publicly available information to value FOPs within 30 days before the scheduled date of the preliminary determination.

Factors of Production

Because information regarding the volume of inputs consumed by Chinese producers/exporters was not reasonably available, the petitioner used the production experience and product-specific consumption rates of a U.S. producer of van-type trailers as a surrogate to value Chinese manufacturers' FOPs.⁴³ Additionally, for China, the petitioner calculated factory overhead, SG&A, and profit based on the experiences of Turkish and Brazilian producers of comparable merchandise.⁴⁴

⁴³ See China AD Initiation Checklist.

⁴⁴ Id.

Normal Value Based on Constructed Value

As noted above for Canada and Mexico, the petitioner stated that it was unable to obtain home market or third-country prices for van-type trailers to use as a basis for NV. Therefore, for Canada and Mexico, the petitioner calculated NV based on CV.⁴⁵

⁴⁵ See Country-Specific AD Initiation Checklists.

Pursuant to section 773(e) of the Act, the petitioner calculated CV as the sum of the cost of manufacturing, SG&A expenses, financial expenses, and profit.⁴⁶ For Canada and Mexico, in calculating the cost of manufacturing, the petitioner relied on the production experience and input consumption rates of a U.S. producer of van-type trailers, valued using publicly available information applicable to Canada and Mexico.⁴⁷ In calculating SG&A expenses, financial expenses, and profit ratios, the petitioner relied on the 2024 financial statements of producers of comparable merchandise domiciled in Spain and Türkiye, respectively.⁴⁸

⁴⁶ Id.

⁴⁷ Id.

⁴⁸ Id.

Fair Value Comparisons

Based on the data provided by the petitioner, there is reason to believe that imports of van-type trailers from Canada, China, and Mexico are being, or are likely to be, sold in the United States at LTFV. Based on comparisons of EP or CEP to NV in accordance with sections 772 and 773 of the Act, the estimated dumping margins for van-type trailers from each of the countries covered by this initiation are as follows: (1) Canada—132.80 percent; (2) Mexico—88.58 to 161.87 percent; (3) China (Türkiye surrogate)—166.64 to 198.26 percent; (4) China (Brazil surrogate)—98.82 to 214.61 percent; (5) China (Mexico surrogate)—87.57 to 130.86 percent.⁴⁹

⁴⁹ Id.

Initiation of LTFV Investigations

Based upon the examination of the Petitions and supplemental responses, we find that they meet the requirements of section 732 of the Act. Therefore, we are initiating LTFV investigations to determine whether imports of van-type trailers from Canada, China, and Mexico are being, or are likely to be, sold in the United States at LTFV. In accordance with section 733(b)(1)(A) of the Act and 19 CFR 351.205(b)(1), unless postponed, we will make our preliminary determinations no later than 140 days after the date of these initiations.

Respondent Selection

Canada and Mexico

In the Petitions, the petitioner identified seven companies in Canada and 11 companies in Mexico as producers and/or exporters of van-type trailers.⁵⁰ Following standard practice in LTFV investigations involving market economy countries, Commerce would normally select respondents based on U.S. Customs and Border Protection (CBP) entry data for imports under the appropriate Harmonized Tariff Schedule of the United States (HTSUS) subheading(s) listed in the “Scope of the Investigations” in the Appendix. However, for these investigations, the main HTSUS subheadings under which the subject merchandise would enter (8716.39.0040 and 8716.90.5060) are basket categories under which non-subject merchandise may also enter. Therefore, instead of relying on CBP entry data in selecting respondents, we intend to issue quantity and value (Q&V) questionnaires to each potential respondent for which there is complete address information on the record.

⁵⁰ See Petitions at Volume I (page 30 and Exhibit I-26); see also First General Issues Supplement at 1-2 and Exhibit I-Supp-1.

Commerce will also post the Q&V questionnaires along with filing instructions on Commerce's website at https://www.trade.gov/ec-adcvd-case-announcements. Exporters/producers of van-type trailers from Canada and Mexico that do not receive Q&V questionnaires may still submit a response to the Q&V questionnaire and can obtain a copy of the Q&V questionnaire from Commerce's website. Responses to the Q&V questionnaire must be submitted by the relevant producers/exporters no later than 5:00 p.m. on February 3, 2026, which is two weeks from the signature date of this notice. An electronically filed document must be received successfully, in its entirety, by ACCESS no later than 5:00 p.m. ET on the deadline noted above.

Interested parties must submit applications for disclosure under an administrative protective order (APO) in accordance with 19 CFR 351.305(b). As stated above, instructions for filing such applications may be found on Commerce's website at https://www.trade.gov/administrative-protective-orders.

China

In the Petitions, the petitioner identified 37 companies in China as producers and/or exporters of van-type trailers.⁵¹ Our standard practice for respondent selection in AD investigations involving NME countries is to select respondents based on Q&V questionnaires in cases where it has determined that the number of companies is large and it cannot individually examine each company based upon its resources. Therefore, considering the number of producers and/or exporters identified in the Petitions, Commerce will solicit Q&V information that can serve as a basis for selecting exporters for individual examination in the event that Commerce determines that the number is large and decides to limit the number of respondents individually examined pursuant to section 777A(c)(2) of the Act. Given the number of producers and/or exporters identified in the Petitions, Commerce has determined that it will issue Q&V questionnaires to the largest producers and/or exporters that are identified in the CBP data for which there is complete address information on the record.⁵²

⁵¹ See Petitions at Volume I (page 30 and Exhibit I-26); see also First General Issues Supplement at 1-2 and Exhibit I-Supp-1.

⁵² See Memoranda, “Release of U.S. Customs and Border Protection Entry Data,” dated January 15, 2026.

Commerce will post the Q&V questionnaires along with filing instructions on Commerce's website at https://www.trade.gov/ec-adcvd-case-announcements. Producers/exporters of van-type trailers from China that do not receive Q&V questionnaires may still submit a response to the Q&V questionnaire and can obtain a copy of the Q&V questionnaire from Commerce's website. Responses to the Q&V questionnaire must be submitted by the relevant Chinese producers/exporters no later than 5:00 p.m. ET February 3, 2026, which is two weeks from the signature date of this notice. All Q&V questionnaire responses must be filed electronically via ACCESS. An electronically filed document must be received successfully, in its entirety, by ACCESS no later than 5:00 p.m. ET on the deadline noted above.

Interested parties must submit applications for disclosure under APO in accordance with 19 CFR 351.305(b). As stated above, instructions for filing such applications may be found on Commerce's website at https://www.trade.gov/administrative-protective-orders.

Separate Rates

In order to obtain separate rate status in an NME investigation, exporters and producers must submit a separate rate application. The specific requirements for submitting a separate rate application in an NME investigation are outlined in detail in the application itself, which is available on Commerce's website at https://access.trade.gov/Resources/nme/nme-sep-rate.html. Note that Commerce recently promulgated new regulations pertaining to separate rates, including the separate rate application deadline and eligibility for separate rate status, in 19 CFR 351.108.⁵³ Pursuant to 19 CFR 351.108(d)(1), the separate rate application will be due 21 days after publication of this initiation notice.⁵⁴ Exporters and producers must file a timely separate rate application if they want to be considered for individual examination. In addition, pursuant to 19 CFR 351.108(e), exporters and producers who submit a separate rate application and have been selected as mandatory respondents will be eligible for consideration for separate rate status only if they fully respond to all parts of Commerce's AD questionnaire and participate in the LTFV proceeding as mandatory respondents.⁵⁵ Commerce requires that companies from China submit a response both to the Q&V questionnaire and to the separate rate application by the respective deadlines to receive consideration for separate rate status. Companies not filing a timely Q&V questionnaire response will not receive separate rate consideration.

⁵³ See Regulations Enhancing the Administration of the Antidumping and Countervailing Duty Trade Remedy Laws, 89 FR 101694, 101759-60 (December 16, 2024).

⁵⁴ See 19 CFR 351.108(d)(1).

⁵⁵ See 19 CFR 351.108(e).

Use of Combination Rates

Commerce will calculate combination rates for certain respondents that are eligible for a separate rate in an NME investigation. The Separate Rates and Combination Rates Bulletin states:

{w}hile continuing the practice of assigning separate rates only to exporters, all separate rates that {Commerce} will now assign in its NME investigation will be specific to those producers that supplied the exporter during the period of investigation. Note, however, that one rate is calculated for the exporter and all of the producers which supplied subject merchandise to it during the period of investigation. This practice applies both to mandatory respondents receiving an individually calculated separate rate as well as the pool of non-investigated firms receiving the {weighted average} of the individually calculated rates. This practice is referred to as the application of “combination rates” because such rates apply to specific combinations of exporters and one or more producers. The cash-deposit rate assigned to an exporter will apply only to merchandise both exported by the firm in question and produced by a firm that supplied the exporter during the period of investigation.⁵⁶

⁵⁶ See Enforcement and Compliance's Policy Bulletin No. 05.1, regarding, “Separate-Rates Practice and Application of Combination Rates in Antidumping Investigation involving NME Countries,” (April 5, 2005), at 6 (emphasis added), available on Commerce's website at https://access.trade.gov/Resources/policy/bull05-1.pdf.

Distribution of Copies of the Petitions

In accordance with section 732(b)(3)(A) of the Act and 19 CFR 351.202(f), a copy of the public version of the Petitions has been provided to the governments of Canada, China, and Mexico via ACCESS. To the extent practicable, we will attempt to provide a copy of the public version of the Petitions to each exporter named in the Petitions, as provided under 19 CFR 351.203(c)(2).

ITC Notification

Commerce will notify the ITC of our initiation, as required by section 732(d) of the Act.

Preliminary Determinations by the ITC

The ITC will preliminarily determine, within 25 days after the date on which the ITC receives notice from Commerce of initiation of the investigations, whether there is a reasonable indication that imports of van-type trailers from Canada, China, and/or Mexico are materially injuring, or threatening material injury to, a U.S. industry.⁵⁷ A negative ITC determination for any country will result in the investigation being terminated with respect to that country.⁵⁸ Otherwise, these LTFV investigations will proceed according to statutory and regulatory time limits.

⁵⁷ See section 733(a) of the Act.

⁵⁸ Id.

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act (i.e., a cost-based PMS allegation), the submission must be filed in accordance with the requirements of 19 CFR 351.416(b), and Commerce will respond to such a submission consistent with 19 CFR 351.301(c)(2)(v). If Commerce finds that a cost-based PMS exists under section 773(e) of the Act, then it will modify its dumping calculations appropriately.

Neither section 773(e) of the Act, nor 19 CFR 351.301(c)(2)(v), sets a deadline for the submission of cost-based PMS allegations and supporting factual information. However, in order to administer section 773(e) of the Act, Commerce must receive PMS allegations and supporting factual information with enough time to consider the submission. Thus, should an interested party wish to submit a cost-based PMS allegation and supporting new factual information pursuant to section 773(e) of the Act, it must do so no later than 20 days after submission of a respondent's initial section D questionnaire response.

We note that a PMS allegation filed pursuant to sections 773(a)(1)(B)(ii)(III) or 773(a)(1)(C)(iii) of the Act (i.e., a sales-based PMS allegation) must be filed within 10 days of submission of a respondent's initial section B questionnaire response, in accordance with 19 CFR 351.301(c)(2)(i) and 19 CFR 351.404(c)(2).

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁵⁹ and, if the information is submitted to rebut, clarify, or correct factual information already on the record, to provide an explanation identifying the information already on the record that the factual information seeks to rebut, clarify, or correct.⁶⁰ Time limits for the submission of factual information are addressed in 19 CFR 351.301, which provides specific time limits based on the type of factual information being submitted. Interested parties should review the regulations prior to submitting factual information in these investigations.

⁵⁹ See 19 CFR 351.301(b).

⁶⁰ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁶¹ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁶²

⁶¹ See 19 CFR 351.301; see also Extension of Time Limits; Final Rule, 78 FR 57790 (September 20, 2013) (Time Limits Final Rule), available at https://www.gpo.gov/fdsys/pkg/FR-2013-09-20/html/2013-22853.htm.

⁶² See 19 CFR 351.302; see also, e.g., Time Limits Final Rule.

Certification Requirements

Any party submitting factual information in an AD or CVD proceeding must certify to the accuracy and completeness of that information.⁶³ Parties must use the certification formats provided in 19 CFR 351.303(g).⁶⁴ Commerce intends to reject factual submissions if the submitting party does not comply with the applicable certification requirements.

⁶³ See section 782(b) of the Act.

⁶⁴ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in these investigations should ensure that they meet the requirements of 19 CFR 351.103(d) (e.g., by filing the required letter of appearance). Note that Commerce has amended certain of its requirements pertaining to the service of documents in 19 CFR 351.303(f).⁶⁵

⁶⁵ See Administrative Protective Order, Service, and Other Procedures in Antidumping and Countervailing Duty Proceedings, 88 FR 67069 (September 29, 2023).

This notice is issued and published pursuant to sections 732(c)(2) and 777(i) of the Act, and 19 CFR 351.203(c).

Dated: January 20, 2026.
Christopher Abbott,
Deputy Assistant Secretary for Policy and Negotiations, performing the non-exclusive functions and duties of the Assistant Secretary for Enforcement and Compliance.

Appendix

Scope of the Investigations

The merchandise covered by these investigations consists of certain van-type trailers and subassemblies thereof, whether finished or unfinished, whether assembled or unassembled, regardless of the number of axles, for carriage of goods. Van-type trailers are typically, but not limited to, rectangular cuboid trailers with a fully enclosed cargo space consisting of a front nose (with or without a refrigeration unit), side walls (with or without doors), movable rear panels (whether roll-up doors, swing doors, or another configuration), a floor and subframe, an affixed or removable roof, a suspension and axle system, wheels and tires, brakes, a lighting and electrical system, landing gear, and coupling for towing behind a truck tractor or a connection system for training behind another van-type trailer. Covered van-type trailers are those with a gross vehicle weight rating of greater than 26,000 pounds.

Subject merchandise includes, but is not limited to, the following subassemblies:

• Van-type trailer subframes, or sections of van-type trailer frames, typically consisting of welded crossmembers and slider rails for attaching the running gear;

• Nose wall, side wall, and roof subassemblies, whether insulated or non insulated, and with or without top, bottom, or side rails;

• Rear door frame, whether for swing or roll-up doors, with or without installed doors, bumpers, bumper plates, or reinforcing plates for liftgate;

• Door assemblies, whether for rear swing doors, roll-up doors, side doors or any other configuration, with or without lockrods, handles, hinges, or hinge pins;

• Rear impact guard subassemblies, typically consisting of a fabricated horizontal structural component (such as a guard tube) and uprights for connection to the underside of the rear frame;

• Coupler assembly for connection to truck tractor's fifth wheel, typically consisting of main beams and cross members, support plates, and front nose wrap, and with or without kingpin installed;

• Running gear subassemblies or axle assemblies for connection to the subframe, which may or may not include suspension(s), wheel end components, slack adjusters, dressed axles, brake chambers, locking pins, wheels, and tires; and

• Landing gear subassemblies, typically consisting of two landing legs, a cross channel, braces, bracketing, a cross shaft, and a crank handle.

These subassemblies are subject to the investigations, whether entered alone or with other subassemblies and whether assembled or unassembled and whether finished or unfinished. The absence of any subassembly from an otherwise finished or unfinished van-type trailer does not remove the van-type trailer from coverage.

Subject merchandise also includes components entered with (i.e., on the same bill of lading as) van-type trailers and subassemblies, such as, but not limited to: hub and drum assemblies, brake assemblies (either drum or disc), bare axles, brake chambers, suspensions and suspension components, wheel end components, landing gear legs, wheels, tires, brake control systems, electrical harnesses and lighting systems, lift gate systems, tire inflation systems, or refrigeration units (with or without evaporators or fuel tanks) whether assembled or unassembled, whether as part of a kit or not, and whether or not accompanied by additional components that constitute as part of an unfinished and/or unassembled van-type trailer and subassemblies thereof that are subject to the investigations.

Processing of finished and unfinished van-type trailers and subassemblies, such as trimming, cutting, grinding, notching, punching, drilling, painting, coating, staining, finishing, assembly, or any other processing either in the country of manufacture of the in-scope product or in a third country does not remove the product from the scope. Inclusion of other components not identified as comprising the finished or unfinished van-type trailer does not remove the product from the scope.

Specifically excluded are subassemblies covered by the scope of the antidumping and countervailing duty orders on certain chassis and subassemblies thereof from the People's Republic of China. See Certain Chassis and Subassemblies Thereof from the People's Republic of China: Antidumping Duty Order, 86 FR 36093 (July 8, 2021) and Certain Chassis and Subassemblies Thereof from the People's Republic of China: Countervailing Duty Order and Amended Final Affirmative Countervailing Duty Determination, 86 FR 24844 (May 10, 2021).

The finished and unfinished van-type trailers subject to these investigations are typically classified in the Harmonized Tariff Schedule of the United States (HTSUS) at subheadings: 8716.39.0040 and 8716.90.5060. Imports of finished and unfinished subassemblies may also enter under HTSUS subheadings 7308.30.5050, 7308.90.9590, 7326.90.8688, 8708.29.1500, 8708.99.8180, 8716.90.5010. While the HTSUS subheadings are provided for convenience and customs purposes, the written description of the merchandise under investigation is dispositive.

[FR Doc. 2026-01456 Filed 1-23-26; 8:45 am]

BILLING CODE 3510-DS-P